DEPARTMENT OF THE INTERIOR

Fish and Wildlife Service

[Docket No. FWS-HQ-ES-2015-0126; FXHC11220900000-156-FF09E33000]

Proposed Revisions to the U.S. Fish and Wildlife Service Mitigation Policy

AGENCY: Fish and Wildlife Service, Interior.

ACTION: Announcement of draft policy; reopening of comment period.

SUMMARY: We, the U.S. Fish and Wildlife Service (Service), are reopening the comment period for our March 8, 2016, notice that announced proposed revisions to the Service Mitigation Policy. This action will allow interested persons additional time to comment on the proposed revisions. Comments previously submitted need not be resubmitted as they will be fully considered in preparation of the final policy.

DATES: We will accept comments from all interested parties until June 13, 2016. Please note that if you are using the Federal eRulemaking Portal (see ADDRESSES, below), the deadline for submitting an electronic comment is 11:59 p.m. Eastern Time on this date.

ADDRESSES: Document Review: The draft policy is available for review at http://www.regulations.gov, under docket number FWS-HQ-ES-2015-0126.

General Comments: You may submit comments by one of the following methods:

• Federal eRulemaking Portal: http://www.regulations.gov. In the Search box, enter the Docket number for the proposed policy, which is FWS-HQ-ES-2015-0126. You may enter a comment by clicking on the “Comment Now!” button. Please ensure that you have found the correct document before submitting your comment.

• U.S. mail or hand delivery: Public Comments Processing, Attn: Docket No. FWS-HQ-ES-2015-0126; Division of Policy, Performance and Management; U.S. Fish and Wildlife Service; 5275 Leesburg Pike, MS: BPHC; Falls Church, VA 22041-3803.

We will post all comments on http://www.regulations.gov. This generally means that we will post any personal information you provide us (see Public Comments, below, for more information).

FOR FURTHER INFORMATION CONTACT: Jason Miller, U.S. Fish and Wildlife Service, Branch of Conservation Planning Assistance, 5275 Leesburg Pike, Falls Church, VA 22041-3803; telephone 703-358-1756.

SUPPLEMENTARY INFORMATION:

Public Comments

We will accept written comments during this reopened comment period on our notice announcing proposed revisions to the Service Mitigation Policy that published in the Federal Register on March 8, 2016 (81 FR 12380). We will consider comments and information that we receive from all interested parties on or before the close of the comment period (see DATES).

If you have already submitted comments during the public comment period that began March 8, 2016, please do not resubmit them. We have incorporated them into the public record, and we will fully consider them in the preparation of our final policy.

You may submit your comments by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Background

On March 8, 2016, we published a notice (81 FR 12380) announcing proposed revisions to our Mitigation Policy (January 23, 1981; 46 FR 7644-7663). The revisions were motivated by changes in conservation challenges and practices since 1981, including accelerating loss of habitats, effects of climate change, and advances in conservation science. The revised policy provides a framework for applying a landscape-scale approach to achieve, through application of the mitigation hierarchy, a net gain in conservation outcomes, or at a minimum, no net loss of resources and their values, services, and functions resulting from proposed actions. The primary intent of the policy is to apply mitigation in a strategic manner that ensures an effective linkage with conservation strategies at appropriate landscape scales.

The revised policy integrates all authorities that allow the Service to recommend or require mitigation of impacts to federal trust fish and wildlife resources, and other resources identified in statute, during development processes. It is intended to serve as a single umbrella policy under which the Service may issue more detailed policies or guidance documents covering specific activities in the future.

Our March 8, 2016, notice stated that we would accept comments on the proposed revisions to our Mitigation Policy for 60 days, ending May 9, 2016. During the course of the comment period on the notice, we received requests to extend the public comment period. In order to provide all interested parties an opportunity to review and comment on the proposed revisions, we are reopening the comment period on the proposed revisions until the date specified in DATES.

Authority

The multiple authorities for this action include the: Endangered Species Act of 1973, as amended (16 U.S.C. 1531 et seq.); Fish and Wildlife Coordination Act, as amended, (16 U.S.C. 661-667(e)); National Environmental Policy Act (42 U.S.C. 4321 et seq.); and others identified in section 2 and Appendix A of the proposed policy (81 FR 12380).

Dated: May 6, 2016.
James W. Kurth,
Acting Director, U.S. Fish and Wildlife Service.

[FR Doc. 2016-11267 Filed 5-11-16; 8:45 am]

BILLING CODE 4333-15-P